AMTRAK REFORM COUNCIL

Notice of Meeting

AGENCY: Amtrak Reform Council.

ACTION: Notice of Special Public Business Meeting in Newark, NJ.

SUMMARY: As provided in Section 203 of the Amtrak Reform and Accountability Act of 1997 (Reform Act), the Amtrak Reform Council (Council) gives notice of a special public meeting of the Council. On June 26, 2001, the Council will hold a Business Meeting 8:30 a.m.-9:30 a.m. during which time the Council members will discuss general Council business. Following the Business Meeting, the Council will hold a formal Hearing inviting states and commuter agencies to testify before the Council on the Council's proposal of “appropriate separation” of the NEC infrastructure from Amtrak national train operations. The Hearing will be held from 9:30 a.m. to 5:30 p.m.

DATES: The Business Meeting will be held on Tuesday, June 26, 2001, from 8:30 a.m. to 9:30 a.m., followed by a Hearing from 9:30 a.m. to 5:30 p.m. Both events are open to the public.

ADDRESSES: Both the Business Meeting and Hearing will take place in the Ballroom at the Hilton Newark Gateway in the Gateway Center on Raymond Boulevard, Newark, New Jersey 07102 (across from Newark Penn Station.) The Ballroom is located on the first floor to the left of the bellhop desk. The nearest New Jersey Transit stop is Newark Penn Station which is across the street. Persons in need of special arrangements should contact the person listed below.

FOR FURTHER INFORMATION CONTACT: Deirdre O'Sullivan, Amtrak Reform Council, Room 7105, JM-ARC, 400 Seventh Street, SW., Washington, DC 20590, or by telephone at (202) 366-0591; FAX: 202-493-2061. For information regarding ARC's upcoming events, the agenda for meetings, the ARC's Second Annual Report, information about ARC Council Members and staff, and much more, you can also visit the Council's website at www.amtrakreformcouncil.gov.

SUPPLEMENTARY INFORMATION: The ARC was created by the Amtrak Reform and Accountability Act of 1997 (Reform Act), as an independent commission, to evaluate Amtrak's performance and to make recommendations to Amtrak for achieving further cost containment, productivity improvements, and financial reforms. In addition, the Reform Act provides: that the Council is to monitor cost savings from work rules established under new agreements between Amtrak and its labor unions; that the Council submit an annual report to Congress that includes an assessment of Amtrak's progress on the resolution of productivity issues; and that, after a specified period, the Council has the authority to determine whether Amtrak can meet certain financial goals specified under the Reform Act and, if it finds that Amtrak cannot, to notify the President and the Congress.

The Reform Act prescribes that the Council is to consist of eleven members, including the Secretary of Transportation and ten others nominated by the President and the leadership of the Congress. Members serve a five-year term.

Issued in Washington, DC—June 8, 2001.
Thomas A. Till,
Executive Director.

[FR Doc. 01-15025 Filed 6-13-01; 8:45 am]

BILLING CODE 4910-06-P